DEPARTMENT OF THE INTERIOR

Geological Survey

[GX25AC0000EXP00]

Public Meetings of the Advisory Committee for Science Quality and Integrity

AGENCY: U.S. Geological Survey, Department of the Interior.

ACTION: Notice of public meetings.

SUMMARY: In accordance with the Federal Advisory Committee Act (FACA) of 1972, the U.S. Geological Survey (USGS) is publishing this notice to announce that a meeting of the Advisory Committee on Scientific Quality and Integrity will take place and is open to members of the public.

DATES: The following meetings will be held as a webinar:

• January: Monday, January 13, 2025, from 12 p.m.-4 p.m. Eastern Time; Tuesday, January 14, 2025, from 12 p.m.-4 p.m. Eastern Time

• October: Tuesday, October 7, 2025, from 12 p.m.-4 p.m. Eastern Time; Wednesday, October 8, 2025, from 12 p.m.-4 p.m. Eastern Time, Thursday, October 9, 2025, from 12 p.m.-4 p.m. Eastern Time

The following meeting will be held in person:

• June: Tuesday, June 17, 2025, from 9 a.m.-4 p.m. Eastern Time; Wednesday, June 18, 2025, from 9 a.m.-4 p.m. Eastern Time

ADDRESSES: The January 13-14, 2025, and October 7-9, 2025, meetings will be held online and via teleconference. The June 17-18, 2025, meetings will be held at the USGS National Center, 12201 Sunrise Valley Drive, Reston, Virginia, 20192. The meetings are open to the public. Members of the public may attend any of the meetings, whether in person on virtually. Registration instructions for both the online and in-person meetings will be posted at https://www.usgs.gov/office-of-science-quality-and-integrity/federal-advisory-committee-science-quality-and-integrity.

FOR FURTHER INFORMATION CONTACT: Dr. Maggie Hardy, Designated Federal Officer, by email at mhardy@usgs.gov or by telephone at 928-556-7235. Comments may be sent by email to: GS-FACSQSI@usgs.gov.

SUPPLEMENTARY INFORMATION: This meeting is being held under the provisions of the FACA of 1972 (5 U.S.C. Ch. 10), the Government in the Sunshine Act of 1976 (5 U.S.C. 552b, as amended), and 41 CFR part 102-3.

Purpose of the Meeting: The Advisory Committee advises the Department of the Interior through the Director of the USGS on matters relating to the responsibilities of the Office of Science Quality and Integrity (OSQI) including monitoring and enhancing the integrity, quality, and health of all USGS science through executive oversight and development of strong practices, policy, and supporting programs. Functional areas in the OSQI include Scientific Integrity; Science Quality; Fundamental Science Practices; Office of Tribal Relations; Youth and Education in Science (YES); Science, Technology, Engineering, and Mathematics (STEM); Laboratories; Postdoctoral Research; and Research and Equipment Development Grade Evaluations of USGS scientists. Additional information about the Advisory Committee is available at: Federal Advisory Committee for Science Quality and Integrity, U.S. Geological Survey.

Agenda Topics:

• Charter Focus Areas

—Identification of key science quality and integrity processes to advance the USGS mission.

—Effective mechanisms for engaging the next generation USGS workforce and others through the YES program and with other federal agencies in STEM and underserved communities.

—The nature and effectiveness of mechanisms to provide oversight of science quality within USGS laboratories.

—Mechanisms that may be employed by the USGS to ensure high standards of science quality and integrity in its programs and products.

• Subcommittee: Recommendation to form a Subcommittee on Laboratory Quality.

• Public Comment

Meeting Accessibility/Special Accommodations: Please make requests in advance for sign language interpreter services, assistive listening devices, language translation services, or other reasonable accommodations. We ask that you contact the person listed in the FOR FURTHER INFORMATION CONTACT section of this notice at least ten (10) business days prior to the meeting to give the USGS sufficient time to process your request. All reasonable accommodation requests are managed on a case-by-case basis. Seating for in person attendees may be limited due to room capacity. Webinar/conference line instructions will be provided to registered attendees prior to the meeting.

Public Disclosure of Comments: There will be an opportunity for public comment during each day of the meeting. Depending on the number of people who wish to speak and the time available, the time for individual comments may be limited. Written comments may also be sent to the Advisory Committee for consideration. To allow for full consideration of information by Advisory Committee members, written comments must be provided to Maggie Hardy (see FOR FURTHER INFORMATION CONTACT section) at least three (3) business days prior to the meeting. Any written comments received will be provided to Advisory Committee members before the meeting.

Before including your address, phone number, email address, or other personally identifiable information (PII) in your comment, you should be aware that your entire comment—including your PII—may be made publicly available at any time. While you may ask us in your comment to withhold your PII from public review, we cannot guarantee we will be able to do so.

Authority: 5 U.S.C. Ch. 10.

Margaret Hardy,
Designated Federal Officer, Advisory Committee for Science Quality and Integrity.

[FR Doc. 2024-30746 Filed 12-23-24; 8:45 am]

BILLING CODE 4338-11-P